DEPARTMENT OF THE INTERIOR

National Park Service

Mountain Lake Fisheries Management Plan North Cascades National Park Service Complex Whatcom, Skagit and Chelan Counties, WA; Notice of Intent To Prepare an Environmental Impact Statement

SUMMARY: In accord with § 102© of the National Environmental Policy Act of 1969 (42 U.S.C.4321, et seq.), the National Park Service is undertaking a conservation planning and environmental impact analysis process for mountain lake fisheries management in North Cascades National Park Service Complex, Washington. An Environmental Impact Statement will be prepared to provide a framework for a comprehensive Mountain Lake Fisheries Management Plan (MLFMP). The MLFMP will govern all future fisheries management actions, including stocking, for all natural lakes in North Cascades National Park, Lake Chelan National Recreation Area, and Ross Lake National Recreation Area.

Background: The National Park Service (NPS) manages North Cascades National Park, Lake Chelan National Recreation Area, and Ross Lake National Recreation Area collectively as the North Cascades National Park Service Complex (North Cascades). The rugged North Cascades landscape contains 240 natural mountain lakes, most of which were naturally fishless due to impassable topographic barriers. Far from barren, these lakes contained a rich array of native aquatic life including plankton, aquatic insects, frogs and salamanders.

Settlers began stocking Cascade lakes in the late 1800's with various species of exotic trout. By the 20th century, stocking was a routine management practice for the U.S. Forest Service and various counties. Upon its inception in 1933, the Washington Department of Game (WDG; now “WDFW”) assumed responsibility for stocking mountain lakes throughout the state to create and maintain a recreational fishery. The State=s involvement grew largely out of the need to prevent haphazard stocking by individuals without biological expertise. With particular emphasis on systematic assessment of fish species and stocking rates, the WDG conducted the first high lakes fisheries research and developed many principles central to fisheries management today.

After North Cascades was established in 1968, a conflict over fish stocking gradually emerged between the NPS and WDFW. The conflict was driven by fundamental policy differences: NPS policies prohibited stocking to protect native ecosystems; WDFW policies encouraged stocking to enhance recreation. To reconcile the conflict and foster cooperative management, the NPS and WDFW entered into a Fisheries Management Agreement in 1988 with the purpose of Aestablishing a mutually agreed to list of lakes within the boundaries of North Cascades National Park which the department [would] stock with fish as part of its fish management program.” The agreement defined 40 specific lakes for stocking and specified that Aresearch results [would] be considered in future decisions'.

Shortly thereafter, the NPS initiated a long-term research effort through Oregon State University to evaluate the effects of fish stocking on native biota in mountain lakes. An independent peer review panel of subject matter experts was established to evaluate research results and to ensure objectivity and scientific merit. The final phase of this research effort was completed in July, 2002. With respect to the subject proposal, key conclusions include: (1) Lakes with reproducing trout populations had significantly fewer salamanders and zooplankton than fishless lakes; (2) There was no significant difference in salamander or zooplankton abundance between fishless lakes and lakes with non reproducing (i.e. stocked) fish; (3) Native biota (e.g. salamanders, zooplankton) appeared to be at greatest risk in lakes with (a) relatively high nitrogen concentrations, (b) relatively warm water and 8 reproducing trout populations (indicative of relatively high fish densities). These criteria were found in six of the 83 lakes studied. A complete account of the research and results can be viewed on the EIS Web site www.nps.gov/noca/highlakes.htm.

Preliminary Information: As noted, the purpose of the EIS effort is to develop a new management plan for natural mountain lakes that conserves native biological integrity and provides a spectrum of recreational opportunities and visitor experiences, including sport fishing. The EIS/MLFMP is needed because current management strategies and biological conditions are inconsistent with NPS policies. The EIS/MLFMP will also fulfill the adaptive management intent of the 1988 Fisheries Management Agreement, which committed that results of ecological research would be used to guide future management decisions.

Issues identified to date, which should be addressed, in preparing the EIS/MLFMP include:

Predation. Exotic trout have measurably changed the composition and abundance of native aquatic organisms through predation in some lakes.

Low quality-fishing experience. Lakes with reproducing populations are often overpopulated with small fish.

Hybridization. In certain lakes exotic trout are escaping downstream and interbreeding with native trout. This could potentially harm bull trout (federally threatened).

Trampling. Shorelines around lakes are sensitive to trampling, and anglers have been documented to cause up to three times more impacts to vegetation.

Restoration effects. Removing introduced fish using nets, chemicals, or predator controls could impact the environment and the visitor experience.

Impacts to Users. A major reduction in fish stocking could have a negative effect on many anglers; many wilderness advocates strongly oppose stocking in wilderness areas.

Unsanctioned Stocking. In the absence of biologically based stocking, unsanctioned stocking could again become a problem.

The preliminary options identified, so far, which should be considered in developing a reasonable range of alternatives to be addressed in the EIS/MLFMP include:

• No Action (continue existing management);

• Modify stocking cycles by applying the latest research results;

• Restore lakes using physical or chemical methods to eliminate fish;

• Regulate stocking methods (e.g. volunteer stocking, aerial stocking, stock sterile fish);

• Establish certain lakes where recreational fishing would be promoted over other uses;

• Allow lakes to become fishless on a cyclical basis to recover native biota.

Scoping and Comment Process: As a key step in this conservation planning and environmental impact analysis process, the NPS is seeking public comments and information to guide the initial preparation of the EIS/MLFMP. The objectives of this effort include: participation from individuals, federal, tribal, state, and local governments, and other interested groups or organizations; develop a reasonable range of management alternatives; identify environmental and socioeconomic issues which warrant detailed environmental impact analysis; and eliminate any issues or topics that do not require detailed analysis. All written comments must be postmarked or transmitted no later than March 1, 2003. Responses should be submitted to North Cascades National Park Service Complex, ATTN: Mountain Lake EIS, 810 State Route 20, Sedro-Woolley, WA 98284 (and copies may also be sent via e-mail to NOCA_planning@nps.gov; please include “Fisheries EIS” in the subject header). Current information will be maintained on the park's EIS Web site: http://www.nps.gov/noca/highlakes.htm. In addition, several public scoping meetings are anticipated to be held early in 2003. These meetings will be announced widely in local and regional news media, via direct park mailings, and posted on the park's website.

All interested parties are encouraged to submit written comments, all of which will become part of the public record. If respondents request that their name and/or address be withheld from public disclosure, the request will be honored to the extent allowable by law. Such requests must be stated prominently in the beginning of the comments. There also may be circumstances wherein the NPS will withhold a respondent's identity as allowable by law. As always: the NPS will make available to public inspection all submissions from organizations or businesses and from persons identifying themselves as representatives or officials of organizations and businesses; and anonymous comments may not be considered.

Decision: The draft EIS is expected to be available for public review in summer 2003; the final EIS is anticipated to be issued in winter 2004. Formal announcements of availability will be published in the Federal Register, along via local and regional news media. The responsibility for approving the EIS has been delegated to the National Park Service, and the official responsible for the final decision is the Regional Director, Pacific West Region. Subsequently, the official responsible for implementing the MLFMP is the Superintendent, North Cascades National Park Service Complex.

Dated: November 1, 2002.
James R. Shevock,
Acting Regional Director, Pacific West Region.

[FR Doc. 03-1002 Filed 1-15-03; 8:45 am]

BILLING CODE 4310-70-P